DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: The Coordinating Center to Support State Incentive Grants to Build Capacity for Alternatives to Restraint and Seclusion (OMB No. 0930-0271)—Revision

The Substance Abuse and Mental Health Services Administration's (SAMHSA) Center for Mental Health Services has funded a Data Collection and Analysis for the Alternatives to Restraint and Seclusion Grant Program. This contract is an evaluation of SAMHSA's State Incentive Grants to Build Capacity for Alternatives to Restraint and Seclusion. These grants are designed to promote the implementation and evaluation of best practice approaches to reducing the use of restraint and seclusion in mental health facilities. Grantees consist of 8 sites (state mental health agencies), all of which will be implementing interventions in multiple facilities (a total of 21 facilities). These include facilities serving adults and those serving children and/or adolescents, with various subgroups such as forensic and sexual offender populations.

With input from multiple experts in the field of restraint and seclusion and alternatives to restraint and seclusion, the project created a common core of data collection instruments that will be used for this cross-site project. The facilities will complete three different instruments over a 3-year time period: (1) Facility/Program Characteristics Inventory (information about type of facilities, characteristics of persons served, staffing patterns, and unit specific data); (2) Inventory of Seclusion and Restraint Reduction Interventions; (3) Seclusion and Restraint Event Data Matrix (data about restraint and seclusion rates within facilities and units). Data will be submitted by the sites electronically via a secured Web site.

The Facility/Program Characteristics Inventory and Inventory of Seclusion and Restraint Reduction Intervention will be collected annually. The Seclusion and Restraint Event Data Matrix will be collected monthly.

The resulting data will help to identify the: (1) Number of programs adopting best practices involving alternative approaches to restraint and seclusion; and (2) program's impact of reducing restraint and seclusion use and adoption of alternative practices. The estimated maximal annual response burden to collect this information is by grant year.

Table 1. Estimates of Maximal Annualized Hour Burden, by Grant Year
Instrument | No. of respondents | Responses per respondent | Total responses | Average hours per response | Total annual burden (hours)
Grant Year 1
Facility/Program Characteristic Inventory | 21 | 1 | 21 | 2 | 42
Inventory of Restraint and Seclusion Reduction Interventions | 21 | 1 | 21 | 8 | 168
Seclusion and Restraint Event Data Matrix | Not given during Year 1 ᵃ
Total Annual | 21 |  |  |  | 210
Grant Year 2
Facility/Program Characteristic Inventory | Not given during Year 2
Inventory of Restraint and Seclusion Reduction Interventions | 21 | 1 | 21 | 8 | 168
Seclusion and Restraint Event Data Matrix | 21 | 29 | 609 | 8 | 4,872
Total Annual | 21 |  |  |  | 5,040
Grant Year 3
Facility/Program Characteristic Inventory | Not given during Year 3
Inventory of Restraint and Seclusion Reduction Interventions | 21 | 2 | 42 | 8 | 336
Seclusion and Restraint Event Data Matrix | 21 | 18 | 378 | 8 | 3,024
Total Annual | 21 |  |  |  | 3,360
ᵃ This instrument may be given during Year 1 pending timely OMB approval. If this is the case, some of the responses allotted to Year 2 may be shifted to Year 1 in order to lessen the burden to respondent burden.

Written comments and recommendations concerning the proposed information collection should be sent by September 17, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 11, 2008.
Elaine Parry,
Acting Director, Office of Program Services.

[FR Doc. E8-19052 Filed 8-15-08; 8:45 am]

BILLING CODE 4162-20-P